DEPARTMENT OF ENERGY

Federal Energy Regulatory Commission

[Docket No. AD03-4-000]

Credit Issues in Energy Markets-Clearing and Other Solutions; Notice of Technical Conference

January 23, 2003.

The Federal Energy Regulatory Commission (FERC) and the Commodity Futures Trading Commission (CFTC) are holding a joint technical conference on credit issues & potential solutions in energy markets. The conference is scheduled for Wednesday, February 5, 2003, at FERC headquarters, 888 First Street, NE., Washington, DC, in the Commission Meeting Room (Room 2C).

The vision of FERC is dependable, affordable energy through competitive markets. Current conditions in energy markets are causing concern due to the credit-worthiness of market participants and market uncertainty. In holding this conference, FERC and CFTC are looking forward to an informed discussion on credit issues, potential solutions to problems and their implementation.

This conference plans to provide education on potential credit solutions, particularly clearing. It will cover clearing fundamentals, clearing regulation, clearing alternatives, industry initiatives and implementation. Speakers will include representatives of clearing providers, energy industry participants, and other experts who are expected to discuss the issues in depth, as well as FERC and CFTC staff.

This one-day conference will begin at 9:00 a.m. and will conclude at about 4:30 p.m. All interested parties are invited to attend. There is no registration fee.

Capitol Connection will cover this meeting live over the Internet, as well as via telephone and satellite. For a fee, you can receive these meetings in your office, at home, or anywhere in the world. To find out more about Capitol Connection's live Internet, phone bridge, or satellite coverage, contact David Reininger or Julia Morelli at (703) 993-3100, or visit http://www.capitolconnection.gmu.edu.

The conference will be transcribed. Those interested in obtaining transcripts of the conference need to contact Ace Federal Reporters at (202) 347-3700 or (800) 336-6646. Transcripts will be available to view electronically under this docket number seven days after the conference. Anyone interested in purchasing videotapes of the meeting should call VISCOM at (703) 715-7999.

The Agenda and the list of participants will be announced in the near future. For additional information, please contact Saida Shaalan of FERC's Office of Market Oversight & Investigations at 202-502-8278 or by e-mail, Saida.Shaalan@ferc.gov.

Magalie R. Salas,
Secretary.

[FR Doc. 03-2130 Filed 1-28-03; 8:45 am]

BILLING CODE 6717-01-P